DEPARTMENT OF AGRICULTURE

Natural Resources Conservation Service

Notice of Proposed Changes to Section IV of the Field Office Technical Guide (FOTG) of the Natural Resources Conservation Service in Oklahoma

AGENCY: Natural Resources Conservation Service (NRCS) in Oklahoma, U.S. Department of Agriculture.

ACTION: Notice of availability of a proposed change in Section IV of the FOTG of the NRCS in Oklahoma for review and comment.

SUMMARY: It is the intention of NRCS in Oklahoma to issue new and revised conservation practice standards in Section IV of the FOTG. The standards are Deep Tillage (324), Riparian Herbaceous Cover (390), and Riparian Forest Buffer (391), Waste Utilization (633), Vegetative Barrier (601), Nutrient Management (590), Tree-Shrub Pruning (660), Windbreak/Shelterbelt Renovation (650), Windbreak/Shelterbelt Establishment (380), Anionic Polyacrylamide (PAM) Erosion Control (450), Grassed Waterway (412), Pipeline (516), Watering Facility (614), Forest Site Preparation (490), and Tree/Shrub Establishment (612).

DATES: Comments will be received on or before March 27, 2002.

FOR FURTHER INFORMATION CONTACT: Inquire in writing to Mark Moseley, Acting ASTC (Ecological Sciences), Natural Resources Conservation Service (NRCS), 100 USDA, Suite 206 Stillwater, OK 74074-2655. Copies of these standards will be made available upon written request. You may submit electronic requests and comments to Mark.Moseley@ok.usda.gov.

FOR FURTHER INFORMATION CONTACT: Mark Moseley, 405-742-1235.

SUPPLEMENTARY INFORMATION: Section 343 of the Federal Agriculture Improvement and Reform Act of 1996 states that revisions made after enactment of the law, to NRCS state technical guides used to carry out highly erodible land and wetland provisions of the law, shall be made available for public review and comment. For the next 30 days, the NRCS in Oklahoma will receive comments relative to the proposed change. Following that period, a determination will be made by the NRCS in Oklahoma regarding disposition of those comments and a final determination of change will be made.

Dated: February 1, 2002.
M. Darrel Dominick,
State Conservationist, Stillwater, Oklahoma.

[FR Doc. 02-4395 Filed 2-22-02; 8:45 am]

BILLING CODE 3410-16-P